DEPARTMENT OF HEALTH AND HUMAN SERVICES

Food and Drug Administration

[Docket No. FDA-2009-N-0667]

[FDA 09-209-RH-03MOU]

Memorandum of Understanding Between the Food and Drug Administration, National Center for Toxicological Research, and the Air Force Research Laboratory, 711 Human Performance Wing, Human Effectiveness Directorate, Biosciences and Protection Division, for Toxicity of Nanomaterials

AGENCY: Food and Drug Administration, HHS.

ACTION: Notice.

SUMMARY: The Food and Drug Administration (FDA) is providing notice of a memorandum of understanding (MOU) between FDA and the Air Force Research Laboratory. This Memorandum of Understanding (MOU) between the Food and Drug Administration, National Center for Toxicological Research (NCTR), and the Air Force Research Laboratory, 711 Human Performance Wing, Human Effectiveness Directorate, Biosciences and Protection Division, Applied Biotechnology Branch (711 HPW/RHPB) (hereinafter referred to as “the Parties”), sets forth the agreement of the Parties to facilitate information sharing in the area of toxicogenomic and computational toxicology research. Through the exchange of information, the Parties intend to coordinate research efforts so as to identify and expedite research and development of new tools and technologies that can be implemented that promote new understanding of the mechanisms of biological responses to environmental stressors, including toxic injury, and to identify biomarkers of exposure and disease that can be used to improve and protect human health.

DATES: The agreement became effective July 28, 2009.

FOR FURTHER INFORMATION CONTACT:

Points of Contact: The following are Responsible Officers in NCTR and 711 HPW/RHP:

(1) For NCTR: William Slikker, Jr., Director, National Center for Toxicological Research, Food and Drug Administration, 3900 NCTR Rd., Jefferson, AR 72079-9501, phone: 870-543-7950, fax: 870-543-7576, e-mail: william.slikker@fda.hhs.gov.

(2) For 711 HPW/RHPB: John J. Schlager, Chief, Applied Biotechnology Branch, 2729 R St., Wright-Patterson AFB, OH 45433-5707, phone: 937-904-9570, fax: 937-255-1474, e-mail: john.schlager@wpafb.af.mil.

Points of Contact: The following are Principal Investigators in NCTR and 711 HPW/RHP:

(1) For NCTR: Syed F. Ali, Senior Biomedical Research Scientist, National Center for Toxicological Research, Food and Drug Administration, 3900 NCTR Rd., Jefferson, AR 72079-9501, phone: 870-543-7123, fax: 870-543-7745, e-mail: syed.ali@fda.hhs.gov.

(2) For 711 HPW/RHPB: Saber M. Hussain, Scientist, Group Lead, Biological Interaction of Nanomaterials, 2729 R St., Wright-Patterson AFB, OH 45433-5707, phone: 937-904-9517, fax: 937-904-9610, e-mail: saber.hussain@wpafb.af.mil.

Points of Contact: The following are points of contact for Agreement Administration in NCTR and 711 HPW:

(1) For NCTR: Thomas J. Flammang, Deputy Director, Office of Research, National Center for Toxicological Research, Food and Drug Administration, 3900 NCTR Rd., Jefferson, AR 72079-9501, phone: 870-543-7291, fax: 870-543-7576, e-mail: thomas.flammang@fda.hhs.gov.

(2) For 711 HPW/XPO: James D. Kearns, Technology Transfer Manager, 2610 Seventh St., Wright-Patterson AFB, OH 45433-7901, phone: 937-255-3765, fax: 937-255-7215, e-mail: jim.kearns@wpafb.af.mil.

SUPPLEMENTARY INFORMATION: In accordance with 21 CFR 20.108(c), which states that all written agreements and MOUs between FDA and others shall be published in the Federal Register, the agency is publishing notice of this MOU.

Dated: August 18, 2009.
David Horowitz,
Assistant Commissioner for Policy.

BILLING CODE 4160-01-S

[FR Doc. E9-20634 Filed 8-26-09; 8:45 am]

BILLING CODE 4160-01-C